DEPARTMENT OF DEFENSE

Office of the Secretary

[Transmittal Nos. 08-18]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated 21 July 1996.

FOR FURTHER INFORMATION CONTACT: Ms. B. English, DSCA/DBO/CFM, (703) 601-3740.

The following is a copy of a letter to the Speaker of the House of Representatives, Transmittals 08-18 with attached transmittal, policy justification, and Sensitivity of Technology.

Dated: January 17, 2008.
L.M. Bynum,
OSD Federal Register Liaison Officer, Department of Defense.

BILLING CODE 5001-06-M

[FR Doc. 08-260 Filed 1-23-08; 8:45 am]

BILLING CODE 5001-06-C